DEPARTMENT OF DEFENSE

Department of the Air Force

Department of the Air Force Scientific Advisory Board; Notice of Federal Advisory Committee Meeting

AGENCY: Department of the Air Force Scientific Advisory Board, Department of the Air Force.

ACTION: Notice of withdrawal.

SUMMARY: The previous Department of the Air Force Scientific Advisory Board Federal Register Notice, Vol. 90, No. 12154, published on Friday March 14, 2025, is hereby withdrawn. The Department of the Air Force Scientific Advisory Board Meeting to be held on March 27-28, 2025 is cancelled. The Department of the Air Force Scientific Advisory Board has been directed to pause all operations for 45 days effective Friday, March 7, 2025, Office of the Secretary of Defense memorandum, “Review of Department of Defense Advisory Committees”.

FOR FURTHER INFORMATION CONTACT: Lt Col Steven Ingraham, (240) 470-4566 (Voice), steven.ingraham@us.af.mil (Email). Mailing address is 1500 West Perimeter Road, Ste. #3300, Joint Base Andrews, MD 20762. Website: https://www.scientificadvisoryboard.af.mil/.

Tommy W. Lee,
Acting Air Force Federal Register Liaison Officer.

[FR Doc. 2025-04999 Filed 3-24-25; 8:45 am]

BILLING CODE 3911-44-P